ENVIRONMENTAL PROTECTION AGENCY

40 CFR Part 52

[EPA-R09-OAR-2015-0164; FRL-9933-50-Region 9]

Revisions to the California State Implementation Plan, Feather River Air Quality Management District; Correction

AGENCY: Environmental Protection Agency (EPA).

ACTION: Direct final rule; correction.

SUMMARY: The Environmental Protection Agency (EPA) is correcting a direct final rule that appeared in the Federal Register on July 8, 2015. The document approved revisions to various sections of the California State Implementation Plan (SIP). This document adds the appropriate amendatory language to § 52.220, Subpart F.

DATES: Effective on September 8, 2015.

FOR FURTHER INFORMATION CONTACT: Kevin Gong, EPA Region IX, (415) 972-3073, Gong.Kevin@epa.gov.

SUPPLEMENTARY INFORMATION: The EPA published a document in the Federal Register on July 8, 2015, (80 FR 38959) approving revisions to various sections of the California State Implementation Plan (SIP) in § 52.220, Subpart F. This correction adds the appropriate amendatory language.

Correction

In FR Doc. 2015-16627 appearing on page 38964 in the Federal Register on July 8, 2015 (80 FR 38959) make the following correction:

§ 52.220 [Corrected]

On page 38964, in the third column, line 25 from the top of the column, correct paragraph (c)(460) to read as follows:

“(460) The following plan revision was submitted on September 29, 2014, by the Governor's designee.

(i) [Reserved]

(ii) Additional Material.

(A) Feather River Air Quality Management District.

(1) Reasonably Available Control Technology Analysis and Negative Declarations (“2014 RACT SIP”), as adopted on August 4, 2014.”

Dated: August 21, 2015.
Jared Blumenfeld,
Regional Administrator, Region IX.

[FR Doc. 2015-21939 Filed 9-4-15; 8:45 am]

BILLING CODE 6560-50-P